DEPARTMENT OF THE INTERIOR

Bureau of Land Management

[LLWO-3200000 L13100000.PP0000 L.X.EM OSHL000.241A]

Potential for Oil Shale Development; Withdrawal of the Call for Nominations—Oil Shale Research, Development, and Demonstration (R, D, and D) Program and Request for Public Comment

AGENCY: Bureau of Land Management (BLM), Interior.

ACTION: Notice.

SUMMARY: On January 15, 2009, the BLM published in the Federal Register a notice entitled “Potential for Oil Shale Development; Call for Nominations—Oil Shale Research, Development, and Demonstration (R, D, and D) Program” (see 74 FR 2611). The new Administration intends to review and reconsider certain aspects of the current solicitation, including lease acreage and the rules that would govern conversion of an R, D, and D lease to a commercial lease, particularly those related to royalty rates. To ensure a fair return to the public for potential commercial development of these Federal resources, the Administration has determined that further information is needed. Accordingly, the BLM is seeking public comment on the terms and conditions of any future oil shale R, D, and D leases that it may issue. The BLM therefore withdraws the January 15, 2009, solicitation of the nomination of parcels to be leased for R, D, and D of oil shale recovery technologies in Colorado, Utah, and Wyoming.

DATES: The withdrawal is effective February 27, 2009. Please submit comments on the terms and conditions of any future oil shale R, D, and D leases no later than May 28, 2009 to assure that they are considered.

ADDRESSES: Please hand-deliver written comments to Nick Douglas, Suite 807, 1620 L Street, NW., Washington, DC. You may send comments via overnight delivery to this same address. Mail U.S.P.S. written comments to BLM (Attn: Nick Douglas), Minerals and Realty Management, Mail Stop: LS 807, 1849 C Street, NW., Washington, DC 20240. You may also send comments electronically to Nick Douglas at Nick_Douglas@blm.gov.

FOR FURTHER INFORMATION CONTACT: Nick Douglas, BLM, Washington Office, 202-557-3377.

SUPPLEMENTARY INFORMATION: The BLM is seeking comment from industry, state and local governments, and citizens on the terms and conditions of a second round of oil shale R, D, and D leasing. The BLM has determined that more information is necessary prior to offering additional Federal lands for R, D and D leasing. This withdrawal is not intended to halt the oil shale R, D and D program, which is ongoing with six R, D and D leases in Colorado and Utah. Please specifically comment on the terms and conditions of any future R, D, and D leases that the BLM may issue, including, but not limited to, comments on lease size, lease duration, royalty rate after conversion to a commercial lease, environmental and economic diligence, and whether there is a need for additional preference right lease acreage. As a result of public comments received, the BLM may revise the lease form originally referenced in the Federal Register notice published on January 15, 2009 [74 FR 2611].

Before including your address, phone number, e-mail address, or other personal identifying information in your comment, you should be aware that your entire comment—including your personal identifying information—may be made publicly available at any time. While you can ask us in your comment to withhold your personal identifying information from public review, we cannot guarantee that we will be able to do so.

Dated: February 24, 2009.
Ron Wenker,
Acting Director, Bureau of Land Management.

[FR Doc. E9-4259 Filed 2-26-09; 8:45 am]

BILLING CODE 4310-84-P